ENVIRONMENTAL PROTECTION AGENCY

40 CFR Part 52

[EPA-R09-OAR-2019-0431; FRL-10004-30-Region 9]

Approval and Conditional Approval of California Air Plan Revision, Imperial County Air Pollution Control District, Reasonably Available Control Technology

AGENCY: Environmental Protection Agency (EPA).

ACTION: Final rule.

SUMMARY: The Environmental Protection Agency (EPA) is taking final action to approve in part and conditionally approve in part revisions to the Imperial County Air Pollution Control District (ICAPCD or “District”) portion of the California State Implementation Plan (SIP). These revisions concern the ICAPCD's Reasonably Available Control Technology (RACT) requirements for the 2008 8-hour ozone National Ambient Air Quality Standard (NAAQS) and negative declarations for several source categories. We are approving the local SIP revisions to demonstrate that RACT is implemented as required under the Clean Air Act (CAA or “the Act”).

DATES: These rules are effective on March 16, 2020.

ADDRESSES: The EPA has established a docket for this action under Docket ID No. EPA-R09-OAR-2019-0431. All documents in the docket are listed on the http://www.regulations.gov website. Although listed in the index, some information is not publicly available, e.g., Confidential Business Information (CBI) or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Eugene Chen, EPA Region IX, (415) 947-4304, chen.eugene@epa.gov.

SUPPLEMENTARY INFORMATION: Throughout this document, “we,” “us” and “our” refer to the EPA.

Table of Contents

I. Proposed Action

II. Public Comments and EPA Responses

III. EPA Action

IV. Statutory and Executive Order Reviews

I. Proposed Action

On September 19, 2019 (84 FR 49202), the EPA proposed to approve and conditionally approve the ICAPCD's “Reasonably Availability Control Technology Analysis for the 2017 Imperial County State Implementation Plan for the 2008 8-hr Ozone Standard” (2017 RACT SIP), which was submitted to the EPA by the California Air Resources Board (CARB) on November 14, 2017, for approval as a revision to the California SIP. The 2017 RACT SIP also included ICAPCD's Minute Order No. 20, which adopted the 2017 RACT SIP and negative declarations for the 2017 RACT SIP.

Specifically, the EPA proposed to conditionally approve the ICAPCD's 2017 RACT SIP with respect to Rule 415, Transfer and Storage of Gasoline, and to approve the remainder of the 2017 RACT SIP. The EPA proposed to fully approve the ICAPCD's negative declarations for the 2017 RACT SIP.

We proposed to approve and conditionally approve the 2017 RACT SIP and negative declarations because we determined that with the exception of the deficiency identified in Rule 415, they complied with the relevant CAA requirements, and the District and CARB made commitments to revise Rule 415 that were sufficient to allow for a conditional approval with respect to sources covered by the Control Techniques Guidelines source category Control of Hydrocarbons from Tank Truck Gasoline Loading Terminals (EPA-450/2-77-026). Our proposed action contains more information on the submitted documents and our evaluation.

II. Public Comments and EPA Responses

The EPA's proposed action provided a 30-day public comment period. During this period, we received no comments.

III. EPA Action

No comments were submitted, and there is no change to our assessment of the SIP submittals as described in our proposed action. Therefore, as authorized in section 110(k)(3) and (k)(4) of the Act, the EPA is conditionally approving the ICAPCD's 2017 RACT SIP with respect to Rule 415, Transfer and Storage of Gasoline, and approving the remainder of ICAPCD's 2017 RACT SIP. In addition, the EPA is fully approving the ICAPCD's negative declarations for the 2017 RACT SIP.

The EPA is also making a non-substantive change to 40 CFR 52.222(a)(12), combining existing paragraphs 52.222(a)(12)(i) and 52.222(a)(12)(ii) by moving the text of paragraph 52.222(a)(12)(ii), “Submitted on December 21, 2010 and adopted on July 13, 2010,” to precede the CTG table in paragraph 52.222(a)(12)(i). The negative declarations that are being added in this rulemaking action are being placed in paragraph 52.222(a)(12)(ii).

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 13, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Particulate matter, Reporting and recordkeeping requirements, Volatile organic compounds.

Dated: December 30, 2019.
Deborah Jordan,
Acting Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraph (c)(530) to read as follows:

§ 52.220 Identification of plan—in part.

* * * * *

(c) * * *

(530) The following plan was submitted on November 14, 2017 by the Governor's designee.

(i) [Reserved]

(ii) Additional Materials.

(A) Imperial County Air Pollution Control District.

(1) Imperial County 2017 State Implementation Plan for the 2008 8-Hour Ozone Standard, adopted September 12, 2017, Chapter 7 (“Reasonably Available Control Technology Assessment”).

(2) Imperial County 2017 State Implementation Plan for the 2008 8-Hour Ozone Standard, adopted September 12, 2017, Appendix B (“Reasonably Available Control Technology Analysis for the 2017 Imperial County State Implementation Plan for the 2008 8-Hour Ozone Standard”).

(B) [Reserved]

* * * * *

3. Section 52.222 is amended by revising paragraph (a)(12) to read as follows:

(a) * * *

(12) Imperial County Air Pollution Control District.

(i) Submitted on December 21, 2010 and adopted on July 13, 2010.

CTG document No. | Title
Aerospace | EPA-453/R-97-004, Aerospace CTG and MACT.
Automobile and Light-duty Trucks, Surface Coating of | EPA-450/2-77-008, Control of Volatile Organic Emissions from Existing Stationary Sources—Volume II: Surface Coating of Cans, Coils, Paper, Fabrics, Automobiles, and Light-Duty Trucks.
| EPA-453/R-08-006, Control Techniques Guidelines for Automobile and Light-Duty Truck Assembly Coatings.
Cans and Coils, Surface Coating of | EPA-450/2-77-008, Control of Volatile Organic Emissions from Existing Stationary Sources—Volume II: Surface Coating of Cans, Coils, Paper, Fabrics, Automobiles, and Light-Duty Trucks.
Fiberglass Boat Manufacturing | EPA-453/R-08-004, Controls Techniques Guidelines for Fiberglass Boat Manufacturing.
Flat Wood Paneling, Surface Coating of | EPA-450/2-78-032, Control of Volatile Organic Emissions from Existing Stationary Sources—Volume VII: Factory Surface Coating of Flat Wood Paneling.
| EPA-453/R-06-004, Control Techniques Guidelines for Flat Wood Paneling Coatings.
Flexible Packing Printing | EPA-453/R-06-003, Control Techniques Guidelines for Flexible Package Printing.
Graphic Arts—Rotogravure and Flexography | EPA-450/2-78-033, Control of Volatile Organic Emissions from Existing Stationary Sources, Volume III: Graphic Arts—Rotogravure and Flexography.
Large Appliances, Surface Coating of | EPA-450/2-77-034, Control of Volatile Organic Emissions from Existing Stationary Sources—Volume V: Surface Coating of Large Appliances.
| EPA-453/R-07-004, Control Techniques Guidelines for Large Appliance Coatings.
Large Petroleum Dry Cleaners | EPA-450/3-82-009, Control of Volatile Organic Compound Emissions from Large Petroleum Dry Cleaners.
Offset Lithographic Printing and Letterpress Printing | EPA-453/R-06-002, Control Techniques Guidelines for Offset Lithographic Printing and Letterpress Printing.
Magnet Wire, Surface Coating for Insulation of | EPA-450/2-77-033, Control of Volatile Organic Emissions from Existing Stationary Sources—Volume IV: Surface Coating of Insulation of Magnet Wire.
Metal Furniture Coatings | EPA-450/2-77-032, Control of Volatile Organic Emissions from Existing Stationary Sources—Volume III: Surface Coating of Metal Furniture.
| EPA-453/R-07-005, Control Techniques Guidelines for Metal Furniture Coatings.
Miscellaneous Metal and Plastic Parts Coatings | EPA-453/R-08-003, Control Techniques Guidelines for Miscellaneous Metal and Plastic Parts Coatings.
Miscellaneous Metal Parts and Products, Surface Coating of | EPA-450/2-78-015, Control of Volatile Organic Emissions from Existing Stationary Sources—Volume IV: Surface Coating of Miscellaneous Metal Parts and Products.
Miscellaneous Industrial Adhesives | EPA-453/R-08-005, Control Techniques Guidelines for Miscellaneous Industrial Adhesives.
Natural Gas/Gasoline Processing Plants Equipment Leaks | EPA-450/2-83-007, Control of Volatile Organic Compound Equipment Leaks from Natural Gas/Gasoline Processing Plants.
Paper, Film and Foil Coatings | EPA-453R-07-003, Control Techniques Guidelines for Paper, Film and Foil Coatings.
Petroleum Refineries | EPA-450/2-77-025, Control of Refinery Vacuum Producing Systems, Wastewater Separators, and Process Unit Turnarounds.
| EPA-450/2-78-036, Control of Volatile Organic Compound Leaks from Petroleum Refinery Equipment.
Pharmaceutical Products | EPA-450/2-78-029, Control of Volatile Organic Emissions from Manufacture of Synthesized Pharmaceutical Products.
Pneumatic Rubber Tires, Manufacture of | EPA-450/2-78-030, Control of Volatile Organic Emissions from Manufacture of Pneumatic Rubber Tires.
Polyester Resin | EPA-450/3-83-008, Control of Volatile Organic Compound Emissions from Manufacture of High-Density Polyethylene, Polypropylene, and Polystyrene Resins.
| EPA-450/3-83-006, Control of Volatile Organic Compound Leaks from Synthetic Organic Chemical Polymer and Resin Manufacturing Equipment.
Shipbuilding/Repair | EPA-453/R-94-032, Shipbuilding/Repair.
Synthetic Organic Chemical | EPA-450/3-84-015, Control of Volatile Organic Compound Emissions from Air Oxidation Processes in Synthetic Organic Chemical Manufacturing Industry.
| EPA-450/4-91-031, Control of Volatile Organic Compound Emissions from Reactor Processes and Distillation Operations in Synthetic Organic Chemical Manufacturing Industry.
Wood Furniture | EPA-453/R-96-007, Wood Furniture.

(ii) The following negative declarations for the 2008 8-hour ozone NAAQS were adopted by the Imperial County Air Pollution Control District on September 12, 2017, and submitted to the EPA on November 14, 2017.

CTG document No. | Title
EPA-450/2-77-008 | Control of Volatile Organic Emissions from Existing Stationary Sources—Volume II: Surface Coating of Cans, Coils, Paper, Fabrics, Automobiles, and Light-Duty Trucks.
EPA-450/2-77-022 | Control of Volatile Organic Emissions from Solvent Metal Cleaning.
EPA-450/2-77-025 | Control of Refinery Vacuum Producing Systems, Wastewater Separators, and Process Unit Turnarounds.
EPA-450/2-77-032 | Control of Volatile Organic Emissions from Existing Stationary Sources—Volume III: Surface Coating of Metal Furniture.
EPA-450/2-77-033 | Control of Volatile Organic Emissions from Existing Stationary Sources—Volume IV: Surface Coating of Insulation of Magnet Wire.
EPA-450/2-77-034 | Control of Volatile Organic Emissions from Existing Stationary Sources—Volume V: Surface Coating of Large Appliances.
EPA-450/2-78-015 | Control of Volatile Organic Emissions from Existing Stationary Sources—Volume VI: Surface Coating of Miscellaneous Metal Parts and Products.
EPA-450/2-78-029 | Control of Volatile Organic Emissions from Manufacture of Synthesized Pharmaceutical Products.
EPA-450/2-78-030 | Control of Volatile Organic Emissions from Manufacture of Pneumatic Rubber Tires.
EPA-450/2-78-032 | Control of Volatile Organic Emissions from Existing Stationary Sources—Volume VII: Factory Surface Coating of Flat Wood Paneling.
EPA-450/2-78-033 | Control of Volatile Organic Emissions from Existing Stationary Sources—Volume VIII: Graphic Arts—Rotogravure and Flexography.
EPA-450/2-78-036 | Control of Volatile Organic Compound Leaks from Petroleum Refinery Equipment.
EPA-450/3-82-009 | Control of Volatile Organic Compound Emissions from Large Petroleum Dry Cleaners.
EPA-450/3-83-006 | Control of Volatile Organic Compound Leaks from Synthetic Organic Chemical Polymer and Resin Manufacturing Equipment.
EPA-450/3-83-007 | Control of Volatile Organic Compound Equipment Leaks from Natural Gas/Gasoline Processing Plants.
EPA-450/3-83-008 | Control of Volatile Organic Compound Emissions from Manufacture of High-Density Polyethylene, Polypropylene, and Polystyrene Resins.
EPA-450/3-84-015 | Control of Volatile Organic Compound Emissions from Air Oxidation Processes in Synthetic Organic Chemical Manufacturing Industry.
EPA-450/4-91-031 | Control of Volatile Organic Compound Emissions from Reactor Processes and Distillation Operations in Synthetic Organic Chemical Manufacturing Industry.
EPA-453/R-96-007 | Control of Volatile Organic Compound Emissions from Wood Furniture Manufacturing Operations.
EPA-453/R-94-032, 61 FR 44050; 8/27/96 | Control Techniques Guidelines for Shipbuilding and Ship Repair Operations (Surface Coating).
EPA-453/R-97-004, 59 FR 29216; 6/06/94 | Aerospace (CTG & MACT).
EPA-453/R-06-001 | Control Techniques Guidelines for Industrial Cleaning Solvents.
EPA-453/R-06-002 | Control Techniques Guidelines for Offset Lithographic Printing and Letterpress Printing.
EPA-453/R-06-003 | Control Techniques Guidelines for Flexible Package Printing.
EPA-453/R-06-004 | Control Techniques Guidelines for Flat Wood Paneling Coatings.
EPA 453/R-07-003 | Control Techniques Guidelines for Paper, Film, and Foil Coatings.
EPA 453/R-07-004 | Control Techniques Guidelines for Large Appliance Coatings.
EPA 453/R-07-005 | Control Techniques Guidelines for Metal Furniture Coatings.
EPA 453/R-08-003 | Control Techniques Guidelines for Miscellaneous Metal and Plastic Parts Coatings, Table 2—Metal Parts and Products.
EPA 453/R-08-003 | Control Techniques Guidelines for Miscellaneous Metal and Plastic Parts Coatings, Table 3—Plastic Parts and Products.
EPA 453/R-08-003 | Control Techniques Guidelines for Miscellaneous Metal and Plastic Parts Coatings, Table 4—Automotive/Transportation and Business Machine Plastic Parts.
EPA 453/R-08-003 | Control Techniques Guidelines for Miscellaneous Metal and Plastic Parts Coatings, Table 5—Pleasure Craft Surface Coating.
EPA 453/R-08-003 | Control Techniques Guidelines for Miscellaneous Metal and Plastic Parts Coatings, Table 6—Motor Vehicle Materials.
EPA 453/R-08-004 | Control Techniques Guidelines for Fiberglass Boat Manufacturing Materials.
EPA 453/R-08-005 | Control Techniques Guidelines for Miscellaneous Industrial Adhesives.
EPA 453/R-08-006 | Control Techniques Guidelines for Automobile and Light-Duty Truck Assembly Coatings.
EPA 453/B16-001 | Control Techniques Guidelines for the Oil and Natural Gas Industry.

* * * * *

4. Section 52.248 is amended by adding paragraph (i) to read as follows:

§ 52.248 Identification of plan—conditional approval.

* * * * *

(i) The EPA is conditionally approving a portion of the California SIP revision submitted on November 14, 2017 demonstrating that control measures in the Imperial County Air Pollution Control District implement RACT for the 2008 8-hour National Ambient Air Quality Standards. The conditional approval is based on a commitment from the state to submit new or revised rules that will correct deficiencies in Rule 415, Transfer and Storage of Gasoline to establish RACT-level controls for sources covered by the Control Techniques Guidelines source category Control of Hydrocarbons from Tank Truck Gasoline Loading Terminals (EPA-450/2-77-026). If the State fails to meet it commitment by one year from the date of this conditional approval, the conditional approval is treated as a disapproval.

[FR Doc. 2020-00780 Filed 2-12-20; 8:45 am]

BILLING CODE 6560-50-P